DEPARTMENT OF COMMERCE

International Trade Administration

Initiation of Five-Year (“Sunset”) Review: Correction

AGENCY: Import Administration, International Trade Administration, Department of Commerce.

DATES: Effective Date: August 4, 2011

Correction

On July 21, 2011, the Department of Commerce (“Department”) issued a notice of initiation of five-year reviews (“Sunset Reviews”) of certain antidumping and countervailing duty orders (“Initiation Notice”) for publication in the Federal Register. See Initiation of Five-Year (“Sunset”) Review (signed July 21, 2011, expected publication in the Federal Register on August 1, 2011). The Department inadvertently included two revoked antidumping duty orders, Ball Bearings and Parts Thereof from Japan (A-588-804) (third review) and Ball Bearings and Parts Thereof from the United Kingdom (A-412-801) (third review), in the list of antidumping duty proceedings for which the Department is initiating Sunset Reviews in August 2011. See Ball Bearings and Parts Thereof From Japan and the United Kingdom: Revocation of Antidumping Duty Orders, 76 FR 41761 (July 15, 2011). The Department is not initiating Sunset Reviews of the antidumping duty orders on Ball Bearings and Parts Thereof from Japan or Ball Bearings and Parts Thereof from the United Kingdom because those antidumping duty orders have been revoked.

The Initiation Notice is hereby corrected to exclude any reference to the initiation of Sunset Reviews of the proceedings concerning Ball Bearings and Parts Thereof from Japan (A-588-804) (third review) and Ball Bearings and Parts Thereof from United Kingdom (A-412-801) (third review).

Dated: July 29, 2011.
Christian Marsh,
Deputy Assistant Secretary for Antidumping and Countervailing Duty Operations.

[FR Doc. 2011-19819 Filed 8-3-11; 8:45 am]

BILLING CODE 3510-DS-P